DEPARTMENT OF ENERGY

Federal Energy Regulatory Commission

[Project Nos. P-13010-001]

Mississippi 8 Hydro LLC; Notice of Intent To File License Application, Filing of Pre-Application Document, and Approving Use of the Traditional Licensing Process

a. Type of Filing: Notice of Intent To File License Application and Request To Use the Traditional Licensing Process.

b. Project No.: P-13010-001.

c. Dated Filed: June 10, 2011.

d. Submitted By: Mississippi 8 Hydro LLC.

e. Name of Project: Mississippi Lock & Dam No. 8 Project.

f. Location: The project would be located on the upper Mississippi River in Houston County, Minnesota at an existing lock and dam owned and operated by the U.S. Corps of Engineers (Corps) at about river mile 679. The project would occupy federal lands managed by the Corps and the U.S. Fish and Wildlife Service.

g. Filed Pursuant to: 18 CFR 5.3 of the Commission's regulations.

h. Potential Applicant Contact: Mr. Brent Smith, Chief Operating Officer, Symbiotics LLC, 371 Upper Terrace, Suite 2, Bend, Oregon 97702; Phone: 541-330-8779.

i. FERC Contact: Lesley Kordella at (202) 502-6406; or e-mail at Lesley.Kordella@ferc.gov.

j. Mississippi 8 Hydro LLC filed its request to use the Traditional Licensing Process on June 10, 2011. Mississippi 8 Hydro LLC provided public notice of its request on June 13, 2011. In a letter dated August 9, 2011, the Director of Hydropower Licensing approved Mississippi 8 Hydro LLC's request to use the Traditional Licensing Process.

k. With this notice, we are initiating informal consultation with: (a) The U.S. Fish and Wildlife Service and NOAA Fisheries under section 7 of the Endangered Species Act and the joint agency regulations thereunder at 50 CFR part 402; (b) NOAA Fisheries under section 305(b) of the Magnuson-Stevens Fishery Conservation and Management Act and implementing regulations at 50 CFR 600.920; and (c) the Minnesota State Historic Preservation Officer, as required by section 106, National Historic Preservation Act, and the implementing regulations of the Advisory Council on Historic Preservation at 36 CFR 800.2.

l. With this notice, we are designating Mississippi 8 Hydro LLC as the Commission's non-federal representative for carrying out informal consultation, pursuant to section 7 of the Endangered Species Act, section 305 of the Magnuson-Stevens Fishery Conservation and Management Act, and section 106 of the National Historic Preservation Act.

m. Mississippi 8 Hydro LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via e-mail of new filings and issuances related to this or other pending projects. For assistance, contact FERC Online Support.

Dated: August 9, 2011.
Kimberly D. Bose,
Secretary.

[FR Doc. 2011-20753 Filed 8-15-11; 8:45 am]

BILLING CODE 6717-01-P